DEPARTMENT OF ENERGY

International Energy Agency Meetings

AGENCY: Department of Energy.

ACTION: Notice of meetings.

SUMMARY: The Industry Advisory Board (IAB) to the International Energy Agency (IEA) will meet on November 19, 20, 21, 2024, as a hybrid meeting via webinar and in person, in connection with a joint meeting of the IEA's Standing Group on Emergency Questions (SEQ) and the IEA's Standing Group on the Oil Market (SOM) which is scheduled at the same time via webinar.

DATES: November 19, 20, 21, 2024.

ADDRESSES: The location details of the SEQ and SOM webinar meeting are under the control of the IEA Secretariat, located at 9 rue de la Fédération, 75015 Paris, France. The in person meeting will take place at IEA Headquarters, 9 rue de la Fédération, 75015 Paris, France.

FOR FURTHER INFORMATION CONTACT: Mr. Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held in person and via webinar at the IEA Headquarters, 9 rue de la Fédération, 75015 Paris, commencing at 9:30 a.m., Paris time, on November 19, 2024 and again on November 21, 2024. The purpose of this notice is to permit attendance by representatives of U.S. company members of the IAB at a meeting of the IEA's ERE 2024 Emergency Response Exercise, which is scheduled to be held at the same location on November 19, 2024; and a meeting of the IEA's Standing Group on Emergency Questions (SEQ), which is scheduled to be held at the same location in person and via webinar on November 21, 2024. The IAB will also hold an online preparatory meeting among company representatives at 2:00 p.m. Paris time on November 14, 2024. The agenda for this preparatory meeting is to review the agendas for the upcoming ERE 2024, SEQ, and SEQ/SOM meetings on November 19-21, 2024.

The agenda of the ERE 2024 meeting is under the control of the IEA. It is expected that the IEA will adopt the following agenda:

1. ERE 2024—Welcome and Opening

2. Emergency response fundamentals

—IEA oil emergency mechanisms

—Current oil market risks

—The importance of communication during a crisis

—Key assessment factors

3. Crisis scenario discussion

—Break-out groups

—Plenary discussion, reports from each team

—Conclusions of the day

The agenda of the SEQ meeting is under the control of the SEQ. It is expected that the SEQ will adopt the following agenda:

Closed SEQ Session—IEA Member Countries Only

1. Adoption of the Agenda

2. Approval of the Summary Record of the 179th SEQ meeting

3. Stockholding Levels of IEA Member Countries

4. Report on Data Task Force (DTF)

5. ERE 2024—Initial Impressions

6. Proposal on Institutional Structure for Energy Security

7. Mid-term Review of Belgium

8. Emergency and Security Review of Sweden

9. Mid-term Review of Hungary

10. Industry Advisory Board Update

11. Any Other Business

Schedule of ERRs for 2024/25

Schedule of SEQ & SOM Meetings for 2025:

—25-27 March 2025 (tentative)

—24-26 June 2025 (tentative)

—18-20 November 2025 (tentative)

A meeting of the Industry Advisory Board (IAB) to the International Energy Agency (IEA) will be held in person and via webinar at the IEA Headquarters, 9 rue de la Fédération, 75015 Paris, commencing at 9:30 a.m., Paris time, on November 20, 2024. The purpose of this notice is to permit attendance by representatives of U.S. company members of the IAB at a joint meeting of the IEA's Standing Group on Emergency Questions (SEQ) and the IEA's Standing Group on the Oil Market (SOM), which is scheduled to be held at the same location in person and via webinar at the same time.

The agenda of the meeting is under the control of the SEQ and the SOM. It is expected that the SEQ and the SOM will adopt the following agenda

Welcome by the Chair

1. Adoption of the Agenda

2. Approval of Summary Record of meeting of 18 June 2024

3. Update on the Current Oil Market Situation

4. European Fuels Outlook—Update on product supply modelling

5. Reports on Recent Oil Market and Policy Developments in IEA member countries

6. Global Hydrogen Review

7. Gas Market Update

8. Renewables Markets Update—Outlook for sustainable fuels

9. World Energy Outlook

10. Energy Technology Perspectives

11. Shipping Update

12. Update on oil data issues in member and non-member countries

13. Update on plans for Summit on the Future of Energy Security

13. Any other business:

Date of next SOM/SEQ meetings: 25-27 March 2025

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on November 6, 2024, by Thomas Reilly, Assistant General Counsel for International and National Security Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 6, 2024.
Treena V. Garrett,
Federal Register Liaison Officer, U.S. Department of Energy.

[FR Doc. 2024-26147 Filed 11-8-24; 8:45 am]

BILLING CODE 6450-01-P